DEPARTMENT OF JUSTICE

Notice of Lodging of Proposed Consent Decree Under the Clean Air Act

On August 24, 2016, the Department of Justice lodged a proposed consent decree with the United States District Court for the Northern District of Illinois in the lawsuit entitled United States and State of Illinois v. East Balt. Commissary LLC, Civil Action No. 16 C 8301.

The complaint in this action was filed jointly by the United States and the State of Illinois and asserts claims under Section 113(b) of the Clean Air Act, as amended (“CAA”), 42 U.S.C. 7413(b), seeking injunctive relief and civil penalties for defendant's violations of its CAA permit. The complaint also includes additional counts brought by the State of Illinois for defendant's violation of reporting and certification requirements of the Illinois State Implementation Plan. The proposed consent decree will resolve all claims pled in the complaint and will require the defendant to perform injunctive relief and pay a civil penalty in the amount of $345,000.

The publication of this notice opens a period for public comment on the consent decree. Comments should be addressed to the Assistant Attorney General, Environment and Natural Resources Division, and should refer to United States and State of Illinois v. East Balt. Commissary LLC, D.J. Ref. No. 90-5-2-1-10668. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $ 12.25 (25 cents per page reproduction cost) payable to the United States Treasury.

Randall M. Stone,
Acting Assistant Section Chief, Environmental Enforcement Section, Environment and Natural Resources Division.

[FR Doc. 2016-21831 Filed 9-9-16; 8:45 am]

BILLING CODE 4410-15-P